SECURITIES AND EXCHANGE COMMISSION

[Release No. IC-26033]

Notice of Applications for Deregistration Under Section 8(f) of the Investment Company Act of 1940

April 30, 2003.

The following is a notice of applications for deregistration under section 8(f) of the Investment Company Act of 1940 for the month of April, 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on May 27, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

Strong Balanced Stock Fund, Inc. [File No. 811-8449]

Summary: Applicant seeks an order declaring that it has ceased to be an investment company. On March 28, 2003, applicant transferred its assets to Strong Balanced Fund, a series of Strong Balanced Fund, Inc., based on net asset value. Expenses of $39,900 incurred in connection with the reorganization were paid by applicant and the acquiring fund.

Filing Date: The application was filed on April 11, 2003.

Applicant's Address: 100 Heritage Reserve, Menomonee Falls, WI 53051.

Merrill Lynch Global Bond Fund for Investment and Retirement [File No. 811-4684]

Summary: Applicant seeks an order declaring that it has ceased to be an investment company. On March 24, 2003, applicant transferred its assets to Core Bond Portfolio of Merrill Lynch Bond Fund, Inc., based on net asset value. Expenses of $93,747 incurred in connection with the reorganization were paid by the acquiring fund.

Filing Date: The application was filed on April 8, 2003.

Applicant's Address: 800 Scudders Mill Rd., Plainsboro, NJ 08536.

Short-Intermediate Income Fund, Inc. [File No. 811-6084]

Summary: Applicant seeks an order declaring that it has ceased to be an investment company. On September 20, 2002, applicant transferred its assets to BrownIA Intermediate Bond Fund, a series of Forum Funds, based on net asset value. Expenses of $43,050 incurred in connection with the reorganization were paid by Brown Investment Advisory Incorporated, investment adviser to the acquiring fund.

Filing Date: The application was filed on March 26, 2003.

Applicant's Address: One South St., Baltimore, MD 21202.

Emerging Growth Fund, Inc. [File No. 811-5320]

Summary: Applicant seeks an order declaring that it has ceased to be an investment company. On September 20, 2002, applicant transferred its assets to BrownIA Small-Cap Growth Fund, a series of Forum Funds, based on net asset value. Expenses of $49,375 incurred in connection with the reorganization were paid by Brown Investment Advisory Incorporated, investment adviser to the acquiring fund.

Filing Date: The application was filed on March 26, 2003.

Applicant's Address: One South St., Baltimore, MD 21202.

The Austria Fund, Inc. [File No. 811-5736]

Summary: Applicant, a closed-end investment company, seeks an order declaring that it has ceased to be an investment company. On April 26, 2002, applicant made its final liquidating distribution to its shareholders, based on net asset value. Expenses of $231,046 incurred in connection with the liquidation were paid by applicant.

Filing Date: The application was filed on March 26, 2003.

Applicant's Address: 1345 Avenue of the Americas, New York, NY 10105.

Real Estate Securities Fund, Inc. [File No. 811-8500]

Summary: Applicant seeks an order declaring that it has ceased to be an investment company. On October 18, 2002, applicant transferred its assets to Scudder RREEF Real Estate Securities Fund, a series of Scudder RREEF Securities Trust, based on net asset value. Expenses of $173,603 incurred in connection with the reorganization were paid by Deutsche Asset Management, Inc., investment adviser to the acquiring fund.

Filing Date: The application was filed on March 26, 2003.

Applicant's Address: One South St., Baltimore, MD 21202.

For the Commission, by the Division of Investment Management, pursuant to delegated authority.
Margaret H. McFarland,
Deputy Secretary.

[FR Doc. 03-11143 Filed 5-5-03; 8:45 am]

BILLING CODE 8010-01-P